DEPARTMENT OF THE INTERIOR

Bureau of Land Management

[A2407-014-004-065516; #O2412-014-004-047181.1]

Implementing Section 50203 of the One Big Beautiful Bill Act

AGENCY: Bureau of Land Management, Interior.

ACTION: Notice of land available for coal leasing.

SUMMARY: Pursuant to section 50203 of the One Big Beautiful Bill Act (OBBBA), enacted on July 4, 2025, the Secretary of the Interior is making available for coal leasing approximately 13,103,000 acres of Federal mineral estate. The OBBBA directs the Secretary of the Interior to make available for coal leasing a minimum of 4,000,000 additional acres of the Federal mineral estate within 90 days of enactment. This notice identifies the additional acreage that is available for leasing. All future coal lease applications will be subject to existing regulatory requirements that apply to leasing Federal coal.

DATES: Lands identified in this notice are available for coal leasing effective October 2, 2025.

FOR FURTHER INFORMATION CONTACT: Indra Dahal, Deputy Division Chief, Solid Minerals Division, at idahal@blm.gov or by phone at (202) 742-0601. For technical or regulatory questions, you may reach out to Thomas Huebner, Coal Program Lead, at thuebner@blm.gov or by phone at (307) 775-6195.

Individuals in the United States who are deaf, deafblind, hard of hearing, or have a speech disability may dial 711 (TTY, TDD, or TeleBraille) to access telecommunications relay services for contacting Mr. Huebner. Individuals outside the United States should use the relay services offered within their country to make international calls to the point-of-contact in the United States.

SUPPLEMENTARY INFORMATION: On July 4, 2025, President Trump signed into law H.R. 1 (Pub. L. 119-21), also known as the OBBBA. Section 50203 of the OBBBA states that notwithstanding section 2(a)(3)(A) of the Mineral Leasing Act (30 U.S.C. 201(a)(3)(A)) and section 202(a) of the Federal Land Policy and Management Act of 1976 (43 U.S.C. 1712(a)), not later than 90 days after the date of enactment of this Act, the Secretary of the Interior shall make available for lease known recoverable coal resources of not less than 4,000,000 additional acres on Federal land located in the 48 contiguous States and Alaska subject to the jurisdiction of the Secretary, but which shall not include any Federal lands within—

(1) a National Monument;

(2) a National Recreation Area;

(3) a component of the National Wilderness Preservation System;

(4) a component of the National Wild and Scenic Rivers System;

(5) a component of the National Trails System;

(6) a National Conservation Area;

(7) a unit of the National Wildlife Refuge System;

(8) a unit of the National Fish Hatchery System; or

(9) a unit of the National Park System.

One Big Beautiful Bill Act, Sec. 50203, Public Law 119-21, 139 Stat. 72.

The Bureau of Land Management (BLM) manages 248 million surface acres of public land, predominantly in the western United States, and over 700 million subsurface acres of mineral estate nationwide. BLM conducted an analysis to identify lands that could be made available for coal leasing under section 50203. BLM analyzed public lands that it manages, lands where the surface estate is managed by other federal agencies and the subsurface is managed by the BLM, as well as split estate lands where the surface estate is owned by private owners or State or local governments and the subsurface minerals are owned by the federal government and managed by the BLM. This analysis incorporated multiple data sources, such as United States Geological Survey coal field data, BLM surface management agency data, Federal mineral data, existing authorized coal leases, and the BLM's Land Use Planning data to identify coal resources that were unavailable for coal leasing as of the date of enactment of the OBBBA. The BLM reviewed the areas where there are known coal resources that are currently closed to coal leasing and compared them to the nine exclusions listed in section 50203, areas already under coal lease, areas withdrawn from mineral leasing and other public laws, and mineral estate with surface acres that are under the jurisdiction of other Federal agencies, not including lands, where appropriate, or portions of lands under the jurisdiction of the Department of War, including through the U.S. Army Corps of Engineers, the Department of Agriculture, the Department of Veterans Affairs, Department of Energy, and the Bureau of Indian Affairs, to identify acreage that could be made available for coal leasing. Lands were removed in areas around public schools and U.S. Census-designated populated places with 1,000 or more residents. However, the BLM will continue to process leases in these areas through the existing land use planning process, outside of section 50203 of the OBBBA. Additionally, lands were removed from habitat for greater sage grouse, alluvial valley floors, and areas within one quarter of a mile of recreation sites. Finally, the analysis identified the remaining recoverable coal acreage that could be made available for coal leasing.

Although this notice makes the identified areas available for coal leasing, this action does not authorize any coal leasing or coal development, and any future coal leasing is subject to BLM discretion following review of any applications under applicable laws and regulations. The application process for leasing coal remains unchanged. Interested parties must submit lease applications for leasing coal via the Lease by Application method found in the regulations at 43 CFR 3425.1. The BLM will review each application under the suitability criteria (43 CFR 3461.5) and in accordance with the National Environmental Policy Act of 1969, 42 U.S.C. 4321-4347, and other statutes. If deemed unsuitable, the application will be rejected or the applicant will be invited to modify the application to meet suitability criteria or show that it falls within an available exemption or exception. Consistent with the Mineral Leasing Act of 1920, at 30 U.S.C. 201(a)(3)(A)(iii), and 43 CFR 3400.3-1, the BLM must obtain consent from the relevant surface management agency to lease Federal coal in an area in which the surface is managed by another surface management agency and those agencies will follow the laws that apply to the lands they manage and may, in some instances, involve the need for a surface management agency plan amendment.

Lands Made Available for Coal Leasing

The 13,103,000 acres made available by this notice under the authority of section 50203 of the OBBBA are derived from Geographic Information System data and analyses and are intended for general planning and illustrative purposes only. These estimates are approximate and may contain errors or omissions due to limitations in source data, resolution, or processing methods. The following table summarizes the acres made available for coal leasing by BLM Resource Management Plan (RMP) or by State (various RMPs). The table presented below rounds down the acreage to the nearest whole number to account for the inaccuracies in the geographic datasets underlying these analyses.

Additional Acres Available for Coal Leasing
Resource management plan/state | DOI surface management agencies (excluding Bureau of Indian Affairs) | U.S. Army Corps of Engineers | Split-estate (private, state, local) | Total
Four Major RMPs
Buffalo, WY | 400,000 |  | 1,700,000 | 2,100,000
Miles City, MT | 1,100,000 |  | 5,600,000 | 6,700,000
North Dakota, ND | 30,000 | 65,000 | 3,700,000 | 3,795,000
Rock Springs, WY | 100,000 |  |  | 100,000
Various RMPs in Each State
Colorado | 100,000 |  | 60,000 | 160,000
Utah | 29,000 |  | 19,000 | 48,000
New Mexico | 200,000 |  |  | 200,000
Total | 1,959,000 | 65,000 | 11,079,000 | 13,103,000

Maps that display lands made available for leasing by this notice under section 50203 of the OBBBA can be found at: https://www.blm.gov/programs/energy-and-minerals/coal/lands-made-available-coal-leasing.

Katharine Sinclair MacGregor,
Deputy Secretary of the Interior.

[FR Doc. 2025-19237 Filed 10-1-25; 8:45 am]

BILLING CODE 4331-29-P